DEPARTMENT OF AGRICULTURE

Forest Service

Flathead National Forest—Swan Lake Ranger District, Montana; Wild Cramer Forest Health and Fuels Reduction Project

AGENCY: Forest Service, USDA.

ACTION: Notice of intent to prepare environmental impact statement.

SUMMARY: The Department of Agriculture, Forest Service, will prepare an Environmental Impact Statement (EIS) for the Wild Cramer Forest Health and Fuels Reduction Project to harvest timber, reduce hazardous forest fuels, prescribe burn, and reconstruct and construct permanent roads within the project area. The project area is approximately 10 miles southwest of Kalispell, Flathead County, Montana. The project area consists of a total of 30,727 acres, encompasses the Blacktail Mountain Ski Area and contains the following drainages: Wild Bill, Truman, Emmons, Patrick, Cramer, Bierney, and Stoner Creeks. The location of the project area is Township 26 and 27 North, and Range 21, 21½, and 22 West.

DATES: Comments concerning the scope of the analysis must be received by December 1, 2010. The draft environmental impact statement (DEIS) is expected in September 2011. No date has yet been determined for filing the final environmental impact statement (FEIS).

ADDRESSES: Send written comments to Wild Cramer Project, Swan Lake District Ranger, 200 Ranger Station Road, Bigfork, MT 59911. Comments may also be sent via e-mail to comments-northern-flathead-swan-lake@fs.fed.us with “Wild Cramer Project” in the subject line and must be submitted in MSWord (*.doc) or rich text format (*.rtf), or via facsimile to (406) 387-3889.

FOR FURTHER INFORMATION CONTACT: Michele Draggoo, Planning Team Leader, Hungry Horse/Glacier View Ranger District, 10 Hungry Horse Drive, P.O. Box 190340, Montana 59919, e-mail mdraggoo@fs.fed.us, or phone (406) 387-3827. The project description can be accessed on the Web at: http://www.fs.fed.us/r1/flathead/nepa/nepa.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the Wild Cramer Forest Health and Fuels Reduction Project is to: (1) Improve and/or maintain the general health, resiliency, and sustainability of forested stands within the project area; (2) reduce the risk of insect epidemics and severe disease infestations within the project area; (3) reduce forest fuels build-up on National Forest System lands adjacent to public and private lands within the project area; (4) provide a safer environment for the public and firefighters should a wildfire occur within the area; (5) increase the probability of stopping wildfires on National Forest System lands before they burn onto private lands; (6) provide forest products to the local timber industry, contributing to short-term timber supply and providing for long-term sustainability of timber on National Forest System lands; and (7) address forest health issues within the Blacktail Mountain Ski Area permit boundary and provide more desirable forest vegetative conditions for existing and future recreational skiing experiences.

Proposed Action

The Forest Service proposes to harvest timber through application of a variety of harvest methods, including regeneration harvest (clearcut with reserves, seed tree with reserves, and shelterwood with reserves) on 3,489 acres and intermediate harvest (commercial and non-commercial thin and sanitation) on 1,511 acres for a total commercial harvest on approximately 5,000 acres of forestland. In addition, an estimated 3,700 acres of sapling thinning and 362 acres of prescribed ecosystem burning are proposed. Use of existing and construction of temporary and permanent (specified) roads would be needed to access timber harvest areas. An estimated 13 miles of specified road and 14 miles of temporary road would be constructed, some of which will be on existing, historic templates. An additional 166 miles of existing National Forest System roads would receive either road reconstruction or pre-haul maintenance. Best Management Practices would be applied to all temporary roads constructed and roads temporarily opened, as well as all system roads used in association with this project for access and product removal. Planting conifer seedlings would also be included in this project.

Possible Alternatives

Alternative A is the No-Action Alternative in which none of the proposed activities would be implemented. Alternative B, the Proposed Action described above, was developed by the Interdisciplinary Team to respond to the purpose and need for action and to comply with the Flathead Forest Plan. At least one additional action alternative will be developed which will examine varying levels and locations for the proposed activities to achieve the proposal's purposes, as well as to respond to the issues and other resource values. All proposed activities are outside the boundaries of any roadless area or any areas considered for inclusion to the National Wilderness System as recommended by the Flathead National Forest Plan or by any past or present legislative wilderness proposals.

Responsible Official

The Responsible Official is Chip Weber, Forest Supervisor, Flathead National Forest, 650 Wolfpack Way, Kalispell, Montana 59901. The Forest Supervisor will make a decision regarding this proposal considering the comments and responses, environmental consequences discussed in the final EIS, and applicable laws, regulations, and policies. The decision and rationale for the decision will be documented in a Record of Decision.

Nature of the Decision To Be Made

The DEIS for the Wild Cramer Forest Health and Fuels Reduction Project will evaluate site-specific issues, consider management alternatives, and analyze the potential effects of the proposed action and alternatives. The scope of the project is limited to decisions concerning activities within the project area that meet the Purpose and Need, as well as desired conditions. The DEIS will provide the Responsible Official with the information needed to decide which actions, if any, to approve. This EIS will tier to the Flathead National Forest Land and Resource Management Plan and EIS of January 1986, and its subsequent amendments, which provide overall guidance for land management activities on the Flathead National Forest.

Scoping Process

This notice of intent initiates the scoping process, which guides the development of the environmental impact statement. Public participation will be solicited by notifying in person and/or by mail known interested and affected publics. Notification of the proposed Wild Cramer Project and request for comments will be distributed to landowners who have property within a one mile radius of the project boundary (approximately 500 entities), as well as other interested parties. A field trip is being offered as part of the scoping process. News releases will be used to give the general public notice.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: September 20, 2010.
Chip Weber,
Forest Supervisor.

[FR Doc. 2010-26998 Filed 10-25-10; 8:45 am]

BILLING CODE 3410-11-P